DEPARTMENT OF VETERANS AFFAIRS

Privacy Act of 1974; Amendment of Systems Notice; Appointment of New Systems Manager

AGENCY: Department of Veterans Affairs.

ACTION: Notice; amendment of system of records.

SUMMARY: As required by the Privacy Act of 1974, 5 U.S.C. 552(a)(E), notice is hereby given that the Department of Veterans Affairs (VA) is changing the system manager, system number, and address in this system of records.

Notice is hereby given that VA is revising certain paragraphs in the system of records entitled “Workers' Compensation/Occupational Safety and Health Management Information System” (*6VA058) which was first published in the Federal Register at Volume 60, Number 60 on March 29, 1995. The system number, system manager and address are being revised to reflect a change in the designation of the office which is responsible for the maintenance of these records. In addition, a “Purpose” paragraph is being included. VA is republishing this system notice in its entirety at this time.

DATES: These amendments are effective on September 14, 2000.

FOR FURTHER INFORMATION CONTACT: Director, Occupational Safety and Health (00S1), Office of Administration, VA Headquarters, 810 Vermont Avenue, NW, Washington, DC 20420, 202-273-9742.

Approved: August 30, 2000.
Hershel W. Gober,
Acting Secretary of Veterans Affairs.

86VA00S1

SYSTEM NAME:

Workers' Compensation/Occupational Safety and Health Management Information System-VA (WC/OSH-MIS).

SYSTEM LOCATION:

Department of Veterans Affairs (VA) Austin Automation Center, Austin, Texas, and information in the database can be viewed and downloaded by employees with workers compensation case management and safety responsibilities at VA employing facilities.

CATEGORIES OF INDIVIDUALS COVERED BY THE SYSTEM:

All VA and former VA employees who have incurred a job-related injury/disease and have an active claim file with the Office of Workers' Compensation Programs (OWCP).

CATEGORIES OF RECORDS IN THE SYSTEM:

Records in the system include the OWCP quarterly injury/disease chargeback reports, weekly Case Management File (CMF) Reports, weekly Automated Compensation Payment System (ACPS) Reports, weekly Bill Payment System (BPS) Reports, data on VA's continuation of pay (COP) costs, and some elements from the Personnel and Accounting Integrated Data System-VA. The computer data base records include the claimant's name, address, Social Security number, date of birth, grade, salary, telephone number, OWCP's case adjudication status (approved or denied, waiting adjudication, file sent to Hearings and Review for decision), accepted medical condition(s), compensation paid (amount and time period covered), medical bills paid (name of physician, hospital or health facility, type of treatment, date of treatment, amount paid, amount paid for medical equipment, and rehabilitation expenses), COP authorized or denied, dates COP is paid, number of days of COP, and total amount paid.

AUTHORITY FOR MAINTENANCE OF THE SYSTEM:

Pub. L. 91-596, 5 U.S.C. 8101 et seq. and Federal Regulations 20 CFR part 10,29 CFR part 1960, and 5 CFR ch. 1, part 353.

PURPOSE(S):

The information contained in this system of records is used to case manage each worker's compensation claim, to produce statistical management reports, monitor the case management performance of each VA employing facility, and produce statistical reports on the source and type of injuries occurring at each facility.

ROUTINE USES OF RECORDS MAINTAINED IN THE SYSTEM, INCLUDING CATEGORIES OF USERS AND THE PURPOSES OF SUCH USES:

1. Disclosure may be made to any third-party or representative acting on claimant's behalf until the claim is adjudicated, all appeal rights are resolved, and the case file is closed.

2. In the event that records in this system of records indicate a violation or potential violation of law, whether civil, criminal or regulatory in nature, and whether arising by general statute or particular program statute, or by regulation, rule or order issued pursuant thereto, the relevant records may be referred, as a routine use, to the appropriate agency, whether Federal, State, local or foreign, charged with the responsibility for investigating or prosecuting such violation or charged with enforcing or implementing the statute, or rule, regulation or order issued pursuant thereto.

3. Disclosure may be made to a Congressional office from the record of an individual in response to an inquiry from the Congressional office made at the request of that individual.

4. Disclosure may be made to the National Archives and Records Administration in records management inspections conducted under authority of 44 U.S.C. 2904 and 2906.

5. Disclosure may be made to any source from which additional information is needed in order to properly make case management decisions.

6. Disclosure of statistical data may be made to other VA facilities and federal agencies.

POLICIES AND PRACTICES FOR STORING, RETRIEVING, ACCESSING, RETAINING, AND DISPOSING OF RECORDS IN THE SYSTEM:

STORAGE:

Paper documents and computer storage media.

RETRIEVABILITY:

Information is retrievable by the name of VA claimant, Social Security number, and OWCP case file number.

SAFEGUARDS:

Access to the WC/OSH-MIS database is restricted to OWCP Case Managers and Safety Officials. Paper records are maintained in a secured area with limited access. Access to data is by means of on-line (query) database or downloading with a personal computer and is restricted to authorized employees by means of unique user identification and passwords.

RETENTION AND DISPOSAL:

Records are destroyed 30 years after OWCP closes the claimant's case file. Records are destroyed by shredding or burning paper documents, or by erasing the magnetic media.

SYSTEM MANAGER(S) AND ADDRESS:

Deputy Assistant Secretary for Administration (03), 810 Vermont Ave., NW., Washington, DC 20420.

NOTIFICATION PROCEDURES:

Employees desiring to know whether this system of records contains a record pertaining to them must submit a written request to VA's Human Resources Management Office of employment or to the office of last employment for former employees.

RECORD ACCESS PROCEDURES:

Employees seeking information regarding access to and contesting of VA records may write, call, or visit VA's Human Resources Management Office of employment.

CONTESTING RECORD PROCEDURES:

See record access procedures above.

RECORDS SOURCE CATEGORIES:

Data tapes furnished by OWCP, data elements from the Personnel and Accounting Integrated Data System-VA, VA COP data, and VA employees.

[FR Doc. 00-23569 Filed 9-13-00; 8:45 am]

BILLING CODE 8320-01-M